DEPARTMENT OF AGRICULTURE

Forest Service

Information Collection: Forest Service Law Enforcement & Investigations Ride-Along Program

AGENCY: Forest Service, Agriculture (USDA).

ACTION: Notice; request for comment.

SUMMARY: In accordance with the Paperwork Reduction Act of 1995, the USDA Forest Service is seeking comments from all interested individuals and organizations on the renewal of a currently approved information collection, Forest Service Law Enforcement & Investigations Ride-Along Program.

DATES: Comments must be received in writing on or before August 30, 2021 to be assured of consideration. Comments received after that date will be considered to the extent practicable.

ADDRESSES: Commenters are encouraged to submit comments by email, if possible. You may submit comments by any of the following methods:

• Email: curtis.davis@usda.gov.

• Mail: Director of Law Enforcement and Investigations, USDA Forest Service, 1400 Independence Avenue SW, Mail Stop 1140, Washington, DC 20250-1140.

• Hand Delivery/Courier: Director of Law Enforcement and Investigations, USDA Forest Service, 1400 Independence Avenue SW, Mail Stop 1140, Washington, DC 20250-1140.

• Facsimile: 703-605-5114.

The public may inspect comments received at USDA Forest Service Washington Office, Yates Building, 201 14th Street SW, Washington, DC; during normal business hours. Visitors must call ahead to 703-605-4690 to facilitate entry to the building.

FOR FURTHER INFORMATION CONTACT: Curtis Davis, Assistant Director Law Enforcement and Investigations, 912-554-4268. Individuals who use telecommunication devices for the deaf (TDD) may call the Federal Information Relay Service (FIRS) at 1-800-877-8339 twenty-four hours a day, every day of the year, including holidays.

SUPPLEMENTARY INFORMATION:

Title: Forest Service Law Enforcement & Investigations Ride-Along Program.

OMB Number: 0596-0170.

Expiration Date of Approval: November 30, 2022.

Type of Request: Extension without revisions of an information collection.

Abstract: This information collection is necessary for Forest Service Law Enforcement and Investigations (LEI) personnel to authorize a rider who applies to participate in the Ride-Along Program. The information collection also provides additional protection for LEI personnel who allow authorized riders to accompany them in boats, cars, trucks, or other vehicles. The purpose of this program is for citizens to learn about and observe Forest Service LEI tasks and activities. The program is intended to enhance Forest Service law enforcement community relationships, improve the quality of Forest Service customer service, and provide LEI personnel a recruitment tool. A rider shall complete two forms in order to participate.

Form FS-5300-33 asks for the participant's name, address, social security number, driver's license number, work address, location of the Ride-Along, and the reason for the Ride-Along. Law enforcement officers use form FS-5300-33 to conduct a minimum background check before authorizing a person to ride along.

Form FS-5300-34 is signed by riders to exempt law enforcement officers and the Forest Service from damage, loss, or injury liability incurred during the rider's participation in the program. If the information is not collected, riders will be denied permission to ride along with Forest Service law enforcement personnel.

Estimate of Annual Burden:

FS-5300-33: 4 minutes

FS-5300-34: 4 minutes

Total: 8 minutes

Type of Respondents: Citizens who want to learn about and observe Forest Service Law Enforcement and Investigation (LEI) tasks and activities.

Estimated Annual Number of Respondents: 101.

Estimated Annual Number of Responses per Respondent: 1.

Estimated Total Annual Burden on Respondents: 13 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the information collection submission for Office of Management and Budget approval.

Tracy Perry,
Director, Law Enforcement and Investigations.

[FR Doc. 2021-13977 Filed 6-29-21; 8:45 am]

BILLING CODE 3411-15-P